DEPARTMENT OF TRANSPORTATION

Federal Aviation Administration

14 CFR Part 71

[Docket No. FAA-2010-0445; Airspace Docket No. 10-AAL-13]

Revocation and Establishment of Class E Airspace; Northeast Alaska, AK

AGENCY: Federal Aviation Administration (FAA), DOT.

ACTION: Final rule.

SUMMARY: This action removes redundant Class E airspace in Northeast Alaska and establishes Class E airspace near Eagle, Alaska. The recent removal of a Colored Federal Airway near Kaktovik, AK, duplication of controlled airspace near Mentasta Lake, AK, and the establishment of one Special Area Navigation (RNAV) Standard Instrument Approach Procedure (SIAP) at Eagle Airport, AK, have made these actions necessary to enhance safety by ensuring that sufficient airspace exists for the management of Instrument Flight Rules (IFR) operations.

DATES: Effective 0901 UTC, January 13, 2011. The Director of the Federal Register approves this incorporation by reference action under title 1, Code of Federal Regulations, part 51, subject to the annual revision of FAA Order 7400.9 and publication of conforming amendments.

FOR FURTHER INFORMATION CONTACT: Derril Bergt, AAL-BAL, Federal Aviation Administration, 222 West 7th Avenue, Box 14, Anchorage, AK 99513-7587; telephone number (907) 271-2796; fax: (907) 271-2850; e-mail: derril.bergt@faa.gov. Internet address: http://www.faa.gov/about/office_org/headquarters_offices/ato/service_units/systemops/fs/alaskan/rulemaking/.

SUPPLEMENTARY INFORMATION:

History

On Wednesday, June 2, 2010, the FAA published a notice of proposed rulemaking in the Federal Register to remove some Class E airspace in Northeast Alaska and establish other Class E airspace near the Eagle Airport, Eagle, AK (75 FR 30746). The proposal did not fully explain why the Class E6 area associated with Barter Island, AK was being removed. The Barter Island Non-directional radio beacon (NDB) is scheduled for decommissioning. The current airspace description is defined by the Barter Island NDB, which is no longer in service. Additionally, recent Area Navigation routes charted to/from the Barter Island area establish sufficient new Class E airspace to conduct IFR operations and therefore make the existing airspace unnecessary. Additionally, a typographical error (boundary coordinate) was noted in the NPRM airspace description and has been corrected in the final rule. With the exception of editorial changes, and the changes described above, this rule is the same as that proposed in the NPRM.

Interested parties were invited to participate in this rulemaking proceeding by submitting written comments on the proposal to the FAA. No comments were received.

The Class E airspace areas designated as En Route Domestic Airspace Areas are published in paragraph 6006 of FAA Order 7400.9U, Airspace Designations and Reporting Points, dated August 18, 2010, and effective September 15, 2010, which is incorporated by reference in 14 CFR 71.1. The Class E airspace designations listed in this document will be published subsequently in the Order.

The Rule

This action amends Title 14 Code of Federal Regulations (14 CFR) part 71 by revising Class E airspace in Northeast Alaska and establishing Class E airspace to accommodate enroute traffic to a new Special RNAV SIAP, and a new obstacle departure procedure (ODP) at the Eagle Airport, Eagle, AK. This Class E6 airspace will provide adequate controlled airspace upward from 1,200 feet above the surface for safety and management of commercial IFR operations in Northeast Alaska. Air carriers providing service to Eagle, AK, must currently operate under Visual Flight Rules (VFR). With the establishment of an instrument approach at Eagle Airport, the uncontrolled airspace must be converted into controlled airspace. The airspace required to provide for the safety and management of IFR operations at Eagle Airport is designated as E6 Enroute Domestic Airspace and is established by this rule.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Because this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it revokes Class E airspace in Northeast Alaska, establishes Class E airspace to allow IFR access at Eagle Airport, Eagle, AK, and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9U, Airspace Designations and Reporting Points, dated August 18, 2010, and effective September 15, 2010, is amended as follows:

Paragraph 6006 En Route Domestic Airspace Areas.

* * * * *

AAL AK E6 Northeast, AK [New]

That airspace extending upward from 1,200 feet above the surface within an area beginning at lat. 63°55′00″ N. long. 141°00′00″ W., then westward along a line of latitude to lat. 63°55′00″ N. long 144°00′00″ W., to lat. 65°30′00″ N. long 144°00′00″ W., then eastward along a line of latitude to lat. 65°30′00″ N. 141°00′00″ W., to the point of beginning.

* * * * *

AAL AK E6 Barter Island, AK [Removed]

* * * * *

AAL AK E6 Mentasta Lake/Mountains Area, AK [Removed]

Issued in Anchorage, AK, on September 29, 2010.
Michael A. Tarr,
Manager, Alaska Flight Services Information Area Group.

[FR Doc. 2010-25481 Filed 10-8-10; 8:45 am]

BILLING CODE 4910-13-P